Proclamation 8675 of May 13, 2011

National Defense Transportation Day and National Transportation Week, 2011

By the President of the United States of America

A Proclamation

America has long depended on a robust and reliable transportation network to support our drive towards lasting security and prosperity. Our highways, railroads, ports, and airways allow us to move around our country quickly and efficiently. Effective transportation systems have helped our economy grow, our first responders save lives, and our Armed Forces mobilize.

The freedom of movement created by America’s transportation infrastructure facilitates our Nation’s economic vitality. Our ability to travel safely enables us to trade with our neighbors and visit our friends and family. It provides Americans from every corner of our country access to the first-rate products and services that define our economy, increasing the productivity of our people and our land. Our transportation system also permits our military to move personnel and supplies at a moment’s notice. The ability to deploy rapidly empowers our men and women in uniform to respond to crises or natural disasters at home and abroad with urgency.

Maintaining the transportation networks that earlier generations bequeathed to us is a challenge, and we must do more than preserve the status quo. We need to develop a 21st-century transportation network—one that is safer, more energy-efficient, more environmentally sustainable, and offers more transportation choices to our citizens than the one we inherited.

As we celebrate the legacy of our Nation’s transportation arteries, we recognize the world is now more connected and more competitive than ever before. New companies around the world look for the fastest and most reliable ways to move people and goods. To attract new businesses to our shores, we must rebuild crumbling roads and bridges and continue to invest in the modernization of our infrastructure. We must repair our highways, reengineer our railroads into high-speed rail networks, and ready ourselves for the next revolutionary breakthroughs in transportation technology. We must provide increased transportation options that cut commuting time, ease traffic congestion, reduce oil consumption, lower greenhouse gas emissions, and expand access to job opportunities and housing that American families can afford. Together, we can continue the work started by the American Recovery and Reinvestment Act to maintain a world-class logistics network, create new jobs, and win the future for our children.

In recognition of the importance of our Nation’s transportation infrastructure, and of the men and women who build, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 20, 2011, as National Defense Transportation Day and May 15 through May 21, 2011, as National Transportation Week. I call upon all Americans to recognize the importance of our Nation’s transportation infrastructure and to acknowledge the contributions of those who build, operate, and maintain it.

IN WITNESS WHEREOF, I have hereunto set my hand this thirteenth day of May, in the year of our Lord two thousand eleven, and of the Independence of the United States of America the two hundred and thirty-fifth.

[FR Doc. 2011-12547

Filed 5-18-11; 11:15 am]

Billing code 3195-W1-P